ENVIRONMENTAL PROTECTION AGENCY

[FRL-6942-1]

Notice of Open Meeting_The Environmental Financial Advisory Board Cost-Effective Environmental Management Workgroup

The Environmental Protection Agency's (EPA) Environmental Financial Advisory Board, Cost Effective Environmental Management Workgroup (CEM) will hold an open meeting in Washington, DC on March 5, 2001. The meeting will be held at the National Press Club, 13th Floor in the Zenger Room, 14th and F Streets, NW, Washington, DC. The meeting will begin at 9:00 am and end at approximately 4:00 pm.

Over the past decade, public utilities have accepted the challenge to become more efficient and cost effective. This meeting will address industry-wide programs that have been initiated as well as specific programs of individual utilities. The meeting will consist of a group of respected panelists who will share their perspectives on new and innovative public sector initiatives helping to lower the life cycle cost of environmental protection. Self-assessment, peer review, benchmarking, consultant evaluations, mock completion, and certification and accreditation will be described as tools that can be used to improve competitiveness. The meeting will provide an overview for the Environmental Financial Advisory Board as to the status of the industry and possible areas where policy recommendations to the EPA may be appropriate.

The meeting is open to the public, but seating is limited. To confirm your participation or get additional information, please contact Vanessa Bowie, U.S. EPA on 202 564-5186.

Dated: January 26, 2001.
Joseph Dillon,
Acting Comptroller.

[FR Doc. 01-3090 Filed 2-5-01; 8:45 am]

BILLING CODE 6560-50-P